DEPARTMENT OF ENERGY

Supplement to the Draft Environmental Impact Statement for a Geologic Repository for the Disposal of Spent Nuclear Fuel and High-Level Radioactive Waste at Yucca Mountain, Nye County, Nevada

AGENCY: Department of Energy (DOE).

ACTION: Notice of availability and opportunity for comment.

SUMMARY: The Department of Energy (DOE) announces the availability of a Supplement to the Draft Environmental Impact Statement for a Geologic Repository for the Disposal of Spent Nuclear Fuel and High-Level Radioactive Waste at Yucca Mountain, Nye County, Nevada (Draft EIS) (DOE/EIS-0250D-S). The Department has prepared this Supplement in accordance with the Nuclear Waste Policy Act of 1982, as amended (NWPA), the National Environmental Policy Act of 1969, as amended (NEPA), the Council on Environmental Quality regulations that implement the procedural provisions of NEPA, and the DOE procedures implementing NEPA. The Council on Environmental Quality NEPA regulations state that an agency may prepare a supplement when it determines that the purposes of NEPA will be furthered by doing so. As anticipated, design enhancements of the proposed repository at Yucca Mountain have evolved since DOE issued the Draft EIS in August 1999. Accordingly, DOE has issued a Supplement to the Draft EIS to address the most recent information on design evolution, including enhancements in design details and operating modes, and associated potential environmental impacts. DOE will provide the public an opportunity to comment on the Supplement and conduct hearings on the Supplement, as described below.

DATES: Comments on the Supplement to the Draft EIS will be accepted during a 45-day public comment period, which ends on June 25, 2001. DOE will consider comments submitted after June 25, 2001, to the extent practicable.

ADDRESSES: DOE will conduct public hearings on the Supplement in Amargosa Valley, Las Vegas, and Pahrump, Nevada. Public hearing locations and further details are provided below in this Notice under “Public Hearings and Invitation to Comment.”

Written comments and requests for further information on the Supplement to the Draft EIS or the public hearings, and requests for copies of the document and included CD-ROM should be directed to: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

Written comments via facsimiles should include the following identifier: “Yucca Mountain Supplement to the Draft EIS.” Addresses and locations where the Supplement will be available for public review are listed in this Notice under “Availability of the Supplement to the Draft EIS.”

Electronic Format: Internet

Written comments on or requests for copies of the document may also be submitted over the Internet via the Yucca Mountain Project website at http://www.ymp.gov, under the listing “Environmental Impact Statement.”

FOR FURTHER INFORMATION CONTACT: Dr. Jane Summerson, EIS Document Manager, M/S 010, U.S. Department of Energy, Office of Civilian Radioactive Waste Management, Yucca Mountain Site Characterization Office, P.O. Box 30307, North Las Vegas, Nevada 89036-0307, Telephone 1-800-967-3477, Facsimile 1-800-967-0739.

For general information on the DOE NEPA process, contact: Ms. Carol M. Borgstrom, Director, Office of NEPA Policy and Compliance (EH-42), U.S. Department of Energy, 1000 Independence Ave., SW., Washington, DC 20585, Telephone 1-202-586-4600, or leave a message at 1-800-472-2756.

SUPPLEMENTARY INFORMATION: In August 1999, DOE issued the Draft Environmental Impact Statement for a Geologic Repository for the Disposal of Spent Nuclear Fuel and High-Level Radioactive Waste at Yucca Mountain, Nye County, Nevada (Draft EIS), in accordance with the National Environmental Policy Act of 1969, as amended (42 U.S.C. 4321 et seq.), and the Nuclear Waste Policy Act, as amended (42 U.S.C. 10101 et seq.). The U.S. Environmental Protection Agency (EPA) issued a Notice of Availability (64 FR 44217) of the Draft EIS on August 13, 1999, initiating a public comment period that ended on February 28, 2000. During the 199-day comment period, DOE held 21 public hearings across the United States. The Draft EIS describes the Proposed Action to construct, operate and monitor, and eventually close a geologic repository for the disposal of spent nuclear fuel and high-level radioactive waste at Yucca Mountain. The Draft EIS also describes the potential environmental impacts associated with the Proposed Action.

For the Draft EIS, DOE based the analysis on the repository design described in the Viability Assessment of a Repository at Yucca Mountain. The Draft EIS discussed ongoing evaluations that could result in modifications to that design.

As DOE anticipated in the Draft EIS, repository design has continued to evolve. Although the fundamental aspects of the repository design have not changed from those discussed in the Draft EIS, design options and operating modes (ways in which to operate the repository) are being explored to reduce uncertainties and improve long-term repository performance and operational safety and efficiency. DOE has documented the evolution to date of its design efforts in the Yucca Mountain Science and Engineering Report: Technical Information Supporting Site Recommendation Consideration (YMS&ER), which describes the current design (which the Supplement calls the S&ER flexible design) and a range of possible repository operating modes. The YMS&ER also summarizes current technical information that the Secretary of Energy will use to determine whether to recommend approval of the Yucca Mountain site to the President for development as a repository.

Evaluations are underway to analyze the effect of various operating modes on repository performance. The flexible design discussed in the YMS&ER includes the ability to operate the repository in a range of operating modes that address higher and lower temperatures and associated humidity conditions. The higher-temperature operating mode means that at least a portion of the emplacement drift rock wall would have a maximum temperature above the boiling point of water at the elevation of the repository [96°C (205°F)]. Examples of the lower-temperature operating modes include conditions under which the drift rock wall temperatures would be below the boiling point of water, and conditions under which the waste package surface temperature would not exceed 85°C (185°F). To bound the impact analysis, DOE considered conditions under which the rock wall temperatures would be above the boiling point of water, and conditions under which waste package surface temperatures would not exceed 85°C.

DOE prepared the Supplement to update information presented in the Draft EIS. The Supplement evaluates potential environmental impacts that could occur, based on the design options and range of possible operating modes presented in the YMS&ER. The Supplement compares the impacts associated with the S&ER flexible design to the impacts presented in the Draft EIS.

The basis for the analytical scenarios presented in the Draft EIS was the amount of commercial spent nuclear fuel and its associated thermal output or load that DOE would emplace per unit area of the repository (called areal mass loading). In the Draft EIS, DOE evaluated three thermal load scenarios including high thermal load, a relatively high emplacement density of commercial spent nuclear fuel (85 metric tons of heavy metal (MTHM) per acre), intermediate thermal load (60 MTHM per acre), and low thermal load (25 MTHM per acre). The analytical scenarios described in the Draft EIS were not intended to place a limit on the choices among alternative designs because DOE expected that the repository design would continue to evolve. Rather, DOE selected these scenarios to represent the range of foreseeable design features and operating modes and to ensure that it considered the associated range of potential environmental impacts.

In contrast to focusing on thermal loads, the S&ER flexible design focuses on controlling the temperatures of the rock between the drifts, the waste package surfaces, and the drift walls to meet thermal management goals established for possible repository operating modes. To meet these thermal goals, the S&ER flexible design uses a linear thermal load (heat output per unit length of the emplacement drift) and emplaces waste packages relatively closer together than the Draft EIS design. Linear thermal load is expressed in terms of kilowatts per meter.

As with the thermal load analytical scenarios analyzed in the Draft EIS, the range of operating modes under the S&ER flexible design is representative of the range of foreseeable future design features and operating modes. The conservative estimates of the associated potential environmental impacts in the Supplement encompass or bound the potential impacts of foreseeable future repository design evolution.

The Supplement focuses on modifications to the repository design and operating modes addressed in the Draft EIS; it does not analyze aspects of the Proposed Action that have not been modified, such as the transportation of spent nuclear fuel and high-level radioactive waste, or the No-Action Alternative. DOE will address all aspects of the Proposed Action and the No-Action Alternative in the Final EIS. Because repository design has evolved from that considered in the Draft EIS, the Final EIS will evaluate only the S&ER flexible design, including the reasonable range of operating modes, and any enhancements to the flexible design developed as the result of ongoing analyses. DOE invites comments on its intention not to address the Draft EIS design in the Final EIS. DOE will respond to comments on the Draft EIS and on the Supplement in the Final EIS.

Public Hearings and Invitation to Comment

The public is invited to provide oral and written comments on the Supplement to the Draft EIS during the public comment period that ends on June 25, 2001. DOE will consider comments submitted during the comment period in preparation of the Final EIS. Comments submitted after June 25, 2001 will be considered to the extent practicable. DOE will hold public hearings to receive oral and written comments from members of the public at the following times and locations:

May 31, 2001: Longstreet Inn & Casino, Highway 373, Amargosa Valley, Nevada 89020; 5:00 pm-9:00 pm—Poster Session, 6:00 pm-9:00 pm—Hearing

June 5, 2001: Suncoast Hotel & Casino, 9090 Alta Drive, Las Vegas, Nevada 89144; 5:00 pm-9:00 pm—Poster Session, 6:00 pm-9:00 pm—Hearing

June 7, 2001: Bob Ruud Community Center, 150 North Highway #160, Pahrump, Nevada 89048; 5:00 pm-9:00 pm—Poster Session, 6:00 pm-9:00 pm—Hearing

This information will be available on the Yucca Mountain website at (http://www.ymp.gov) and on the toll-free information line at 1-800-967-3477.

Each of the public hearings will include a brief session in which an overview of the Supplement will be presented, a general question-and-answer session, and an opportunity to provide comments for the record. Members of the public who plan to present oral comments are asked to register in advance by calling 1-800-967-3477.

Availability of the Supplement to the Draft EIS

Copies of the Supplement are being distributed to Federal, State, and Indian tribal representatives, and other organizations and individuals who have indicated an interest in the EIS process. Copies of this document may be requested by calling 1-800-967-3477 or over the Internet via the Yucca Mountain Project website (http://www.ymp.gov). Both the Supplement and the Draft EIS will be available via the Internet on the DOE NEPA website at (http://tis.eh.doe.gov/nepa), under the listing DOE NEPA Analyses, or on the Yucca Mountain Project web site listed above. The availability of the Yucca Mountain Science and Engineering Report will be announced in a separate Federal Register Notice. That report will be available or can be requested on the Yucca Mountain Project website (http://www.ymp.gov) or by calling 1-800-967-3477.

Copies of references considered in preparation of the Supplement and Draft EIS, including the Yucca Mountain Science and Engineering Report, will be available at the following Public Reading Rooms: University of Nevada—Las Vegas, Nevada; University of Nevada—Reno, Nevada; Beatty Yucca Mountain Science Center, Nevada; Pahrump Yucca Mountain Science Center, Nevada; and the DOE Headquarters Office in Washington, D.C. Addresses of these Public Reading Rooms and of other Public Reading Rooms and libraries where the Supplement and the Draft EIS will be available for public review are listed below.

Public Reading Rooms

Inyo County—Contact: Andrew Remus; (760) 878-0447; Inyo County Yucca Mountain Repository Assessment Office; 168 North Edwards St.; Post Office Drawer L; Independence, CA 93526.

Oakland Operations Office—Contact: Laura Martinez; (510) 637-1762; U.S. Department of Energy Public Reading Room; EIC; 1301 Clay St., Room 700N; Oakland, CA 94612-5208.

National Renewable Energy Laboratory—Contact: John Horst; (303) 275-4709; Public Reading Room; 1617 Cole Blvd.; Golden, CO 80401.

Rocky Flats Public Reading Room—Contact: Gary Morrell; (303) 469-4435; College Hill Library; 3705 112th Ave. B121; Westminster, CO 80030.

Headquarters Office—Contact: Carolyn Lawson; (202) 586-3142; U.S. Department of Energy; Room 1E-190, Forrestal Building; 1000 Independence Ave., SW; Washington, DC 20585.

Atlanta Support Office—Contact: Nancy Mays/Laura Nicholas; (404) 347-2420; Department of Energy; Public Reading Room; 730 Peachtree St., Suite 876; Atlanta, GA 30308-1212.

Southeastern Power Administration—Contact: Joel W. Seymour; (706) 213-3800; U.S. Department of Energy; Reading Room; Samuel Elbert Building; 2 South Public Square; Elberton, GA 30635-2496.

Boise State University Library—Contact: Adrien Taylor; (208) 426-1737; Government Documents; 1910 University Dr.; P.O. Box 46; Boise, ID 83707-0046.

Idaho Operations Office—Contact: Brent Jacobson; (208) 526-1144; Public Reading Room; 1776 Science Center Dr.; Idaho Falls, ID 83402.

Chicago Operations Office—Contact: John Shuler; (312) 996-2738; Document Department; University of Illinois at Chicago; 801 South Morgan St.; Chicago, IL 60607.

Strategic Petroleum Reserve Project Management Office—Contact: Deanna Harvey; (504) 734-4316; U.S. Department of Energy; SPRPMO/SEB Reading Room; 850 Commerce Road, East; New Orleans, LA 70123.

Lander County—Contact: Mickey Yarbo; (775) 635-2882; 315 S. Humboldt St.; Battle Mountain, NV 89820.

Beatty Yucca Mountain Science Center—Contact: Marina Anderson; (775) 553-2130; 100 North E Ave.; Beatty, NV 89003.

Lincoln County—Contact: Jason Pitts; (775) 726-3511; Box 1068; 176 Clover St.; Caliente, NV 89008.

Nevada State Clearinghouse—Contact: Heather Elliot; (775) 684-0209; Department of Administration; 209 E. Musser Street, Room 200; Carson City, NV 89701.

White Pine County—Contact: Josie Larson; (775) 289-2033; 959 Campton St.; Ely, NV 89301.

Eureka County—Contact: Leonard Fiorenzi; (775) 237-5372; 701 S. Main St.; (P.O. Box 714); Eureka, NV 89316.

Churchill County—Contact: Alan Kalt; (775) 423-5136; 155 North Taylor St., Suite 182; Fallon, NV 89046-2478.

Esmeralda County—Contact: George McCorkell; (775) 485-3419; Repository Oversight Program; 233 Crook St.; P.O. Box 295; Goldfield, NV 89316.

Mineral County—Contact: Judy Shankle; (775) 945-2484; First & A Streets; (*Hand Deliverables Only*); (P.O. Box 1600); Hawthorne, NV 89415.

Clark County—Contact: Dennis Bechtel; (702) 455-5178; 500 South Grand Central Parkway #3012; (P.O. Box 551751); Las Vegas, NV 89155-1751.

Las Vegas, Nevada—Contact: Reference Desk; (702) 895-3409; University of Nevada Las Vegas; James R. Dickinson Library; Government Publications; 4505 Maryland Parkway; Las Vegas, NV 89154-7013.

Las Vegas Yucca Mountain Science Center—Contact: Claire Whetsel; (702)295-1312; 4101-B Meadows Lane; Las Vegas, NV 89107.

Nye County—Contact: Les Bradshaw; (775) 727-7727; c/o Department of Natural Resources and Federal Facilities; 1210 E. Basin Ave., Suite 6; Pahrump, NV 89048.

Pahrump Yucca Mountain Science Center—Contact: John Pawlak; (775) 727-0896; 1141 South Highway 160; Pahrump NV, 89041.

Reno, Nevada—Contact: Kathie Brinkerhoff; (775) 784-6500; University of Nevada, Reno; The University of Nevada Libraries; Business and Government Information Center M/S 322; 1664 N. Virginia St.; Reno, NV 89557-0044.

Albuquerque Operations Office—Contact: Dan Berkley; (505) 277-7180; U.S. DOE Contract Reading Room; University of New Mexico; Zimmerman Library; Albuquerque, NM 87131-1466.

Fernald Area Office—Contact: Diane Rayer;(513)648-7480; U.S. Department of Energy; Public Information Room;10995 Hamilton-Cleves Highway M/S 78; Harrison, OH 45030.

Southwestern Power Administration—Contact: Marti Ayres; (918) 595-6609; U.S. Department of Energy; Public Reading Room; 1 West 3rd, Suite 1600; Tulsa, OK 74103.

Bonneville Power Administration—Contact: Bill Zimmerman/Darlene Freestad; (503) 230-7334; U.S. Department of Energy; BPA-C-ACS-1; 905 NE 11th St.; Portland, OR 97232.

Pittsburgh Energy Technology Center—Contact: Ann C. Dunlap; (412) 386-6167; U.S. Department of Energy; Building 922/M210; Cochrans Mill Rd.; Pittsburgh, PA 15236-0940.

Savannah River Operations Office—Contact: Pauline Connell; (803) 725-2497; Gregg-Graniteville Library; University of South Carolina-Aiken; 171 University Parkway; Aiken, SC 29801.

University of South Carolina—Contact: William Suddeth; (803) 777-4841; Thomas Cooper Library; Documents/Microforms Department; Green and Sumter Streets; Columbia, SC 29208.

Oak Ridge Operations Office—Contact: Walter Perry; (865) 241-4780; U.S. Department of Energy; Public Reading Room; P.O. Box 2001; American Museum of Science and Energy; 230 Warehouse Rd.; Oak Ridge, TN 37831.

Southern Methodist University—Contact: Stephen Short; (214) 768-2561; Central Union Libraries Fondren Library; Government Information; Airline and McFarland Streets; Dallas, TX 75275-0135.

University of Utah—Contact: Walter Jones; (801) 581-8863; Marriott Library Special Collections; 295 South 15th East; Salt Lake City, UT 84112-0860.

Richland Operations Center—Contact: Terri Traub; (509) 372-7443; U.S. Department of Energy; Public Reading Room; 2770 University Drive; Room 101L; PO Box 999; Mailstop H2-53; Richland, WA 99352.

Issued in Washington, DC, April 27, 2001.
Lake Barrett,
Acting Director, Office of Civilian Radioactive Waste Management.

[FR Doc. 01-11275 Filed 5-3-01; 8:45 am]

BILLING CODE 6450-01-P